Title 3—

The President

Proclamation 9810 of October 23, 2018

United Nations Day, 2018

By the President of the United States of America

A Proclamation

On United Nations Day, we recognize the many ways the United Nations has contributed to peace and security among nations. Since it was founded more than 70 years ago with the aim of breaking the cycle of global conflict, the United Nations has provided a forum for nations to resolve conflicts peacefully in an increasingly complex world. The United States is committed to the organization's future and is confident that responsibility more equally shared among member states will lead to greater effectiveness and efficiency.

The United States has, since the beginning, provided leadership and vision to the United Nations. Today, the United States continues to drive the United Nations forward, insisting on fundamental reforms that are needed to enable the organization to respond to the unique and evolving problems of the 21st century. Only when each country does its part can the highest aspirations of the United Nations be realized, and the financial responsibility for an organization like the United Nations must be equitably shared among its member states. Additionally, in recent months, the United States has pressed for crucial changes to improve the organization's performance, accountability, and responsiveness. The United States pursuit of reform, however, does not end there. Earlier this year, the United States sent a clear message about the need for change by withdrawing from the flawed United Nations Human Rights Council, which repeatedly rejected necessary reforms. We will not return until real reform is enacted, and we will not hesitate to take the measures necessary to protect America's interests or to better enable the United Nations to fulfill its purpose.

The United Nations is an important forum for addressing the international challenges we face today. In the past year, the United States has taken bold steps, with the support of the United Nations, to address the global threat of nuclear proliferation; worked with partners to increase their capacity for sustained humanitarian response and with donors and implementing organizations to make humanitarian aid more efficient; supported United Nations Security Council action to improve the international response to regional conflicts; and brought attention to human rights abuses. The great progress achieved on these fronts harbingers the limitless potential of the United Nations to help confront these and other challenges.

When the United Nations lives up to its lofty ideals, it is an invaluable forum for cooperation among the peoples of the world. On this day, we celebrate the combined efforts of member states to achieve the United Nations' goals of international peace and security and developing friendly relations among nations. We also acknowledge all the men and women who are serving around the world in peacekeeping and humanitarian missions, and all those who work to keep our world safe from weapons of mass destruction.

NOW, THEREFORE, I, DONALD J. TRUMP, President of the United States of America, by virtue of the authority vested in me by the Constitution and the laws of the United States, do hereby proclaim October 24, 2018, as United Nations Day. I urge the Governors of the 50 States, the Governor of the Commonwealth of Puerto Rico, and the officials of all other areas under the flag of the United States, to observe United Nations Day with appropriate ceremonies and activities.

IN WITNESS WHEREOF, I have hereunto set my hand this twenty-third day of October, in the year of our Lord two thousand eighteen, and of the Independence of the United States of America the two hundred and forty-third.

[FR Doc. 2018-23776

Filed 10-26-18; 11:15 am]

Billing code 3295-F9-P